DEPARTMENT OF TRANSPORTATION

Federal Highway Administration

Environmental Impact Statement: Iron County, UT

AGENCY: Federal Highway Administration (FHWA), DOT.

ACTION: Notice of Intent to prepare an Environmental Impact Statement (EIS).

SUMMARY: The FHWA is issuing this notice to advise the public that an Environmental Impact Statement (EIS) will be prepared for a proposed roadway project in Iron County, Utah.

FOR FURTHER INFORMATION CONTACT: Sandra Garcia-Aline, Project Manager, Federal Highway Administration, 2520 West 4700 South, Suite 9A, Salt Lake City, UT 84118, Telephone: (801) 963-0078 ext. 250.

SUPPLEMENTARY INFORMATION: The Federal Highway Administration (FHWA), in cooperation with the Utah Department of Transportation (UDOT) and Cedar City will prepare an Environmental Impact Statement (EIS) on a proposal to improve the Cross Hollow road in Iron County, Utah. The proposed project would involve the construction of a road between the south Cedar City/I-15 interchange and the SR-56/Cross Hollow Road intersection; a distance of approximately 3 miles. The existing Cross Hollow road is mostly unimproved and unpaved. Improved sections of the road presently exist at the south Cedar City/I-15 interchange and the SR-56/Cross Hollow Road intersection.

Improvements to the corridor are considered necessary to provide for the existing and projected traffic demand. Alternatives under consideration include (1) taking no action, (2) constructing a new road on the existing alignment, and (3) constructing a new road on a new alignment. Various design variations of grade and alignment will be investigated as part of the EIS.

Information describing the proposed action and soliciting comments will be sent to appropriate federal, state, and local agencies, and to private organizations and citizens who have previously expressed or are known to have interest in this proposal. A series of public meetings will be held in Cedar City in Spring 2005. In addition, a public hearing will be held after the draft EIS has been prepared. The draft EIS will be available for public and agency review and comment before the public hearing.

To ensure that a full range of issues related to the proposed action is addressed and all significant issues are identified, comments and suggestions are invited from all interested parties. Comments or questions concerning the proposed action and the EIS should be directed to the FHWA as mentioned above.

(Catalog of Federal and Domestic Assistance Program Number 20.205, Highway Research, Planning and Construction. The regulations implementing Executive Order 12372 regarding intergovernmental consultation on federal programs and activities apply to this program.)
Issued on: March 4, 2005.
Jeffrey Berna,
FHWA Environmental Specialist, Salt Lake City, UT.

[FR Doc. 05-4685 Filed 3-9-05; 8:45 am]

BILLING CODE 4910-22-M